DEPARTMENT OF COMMERCE

National Oceanic and Atmospheric Administration

[RTID 0648-XB993]

North Pacific Fishery Management Council; Public Meeting

AGENCY: National Marine Fisheries Service (NMFS), National Oceanic and Atmospheric Administration (NOAA), Commerce.

ACTION: Notice of hybrid meeting.

SUMMARY: The North Pacific Fishery Management Council (Council) Crab Plan Team will meet May 16, 2022, through May 19, 2022.

DATES: The meeting will be held on Monday, May 16, 2022 through Thursday, May 19, 2022, from 8 a.m. to 4 p.m., Alaska Time.

ADDRESSES: The meeting will be a hybrid meeting. Attend in-person in the Dillingham/Katmai Room at the Anchorage Hilton Hotel, 500 W 3rd Ave., Anchorage, AK 99501 or join online through the link at https://meetings.npfmc.org/Meeting/Details/2913.

Council address: North Pacific Fishery Management Council, 1007 W 3rd Ave., Anchorage, AK 99501-2252; telephone: (907) 271-2809.

Instructions for attending the meeting via video conference are given under SUPPLEMENTARY INFORMATION, below.

FOR FURTHER INFORMATION CONTACT: Sarah Rheinsmith, Council staff; phone: (907) 271-2809; email: sarah.rheinsmith@noaa.gov. For technical support please contact our admin Council staff, email: npfmc.admin@noaa.gov.

SUPPLEMENTARY INFORMATION:

Agenda

Monday, May 16, 2022 Through Thursday, May 19, 2022

The agenda will include: (a) Survey updates for corner stations; (b) Aleutian Island Golden King Crab (AIGKC) final assessment and stock status; (c) Snow Crab spatial assessment model; (d) Climate Change and Snow Crab; (e) Bristol Bay Red King Crab (BBRKC) proposed model runs and Risk Tables; (f) Snow Crab IBM model update; (g) BBRKC resampling updates; (h) Snow Crab updates and continued explorations no what happened to the stock; (i) Snow Crab-proposed model runs and Rebuilding plan; (j) Bering Sea Fisheries Research Foundation (BSFRF) survey catchability/selectivity; (k) Essential Fish Habitat (EFH) Fishing Effects Update; (l) Tanner Crab, Pribilof Island Red King Crab (PIRKC) and Saint Matthews Blue King Crab (SMBKC) proposed model runs; (m) BBRKC Discussion Paper; (n) Modifying timing of Crab Assessments; (o) BSFRF update; and (p) additional topics. The agenda is subject to change, and the latest version will be posted at https://meetings.npfmc.org/Meeting/Details/2913 prior to the meeting, along with meeting materials.

Connection Information

You can attend the meeting online using a computer, tablet, or smart phone, or by phone only. Connection information will be posted online at: https://meetings.npfmc.org/Meeting/Details/2913. If you are attending the meeting in-person please note that all attendees will be required to wear a mask.

Public Comment

Public comment letters will be accepted and should be submitted electronically to https://meetings.npfmc.org/Meeting/Details/2913.

Authority: 16 U.S.C. 1801 et seq.

Dated: April 25, 2022.
Tracey L. Thompson,
Acting Deputy Director, Office of Sustainable Fisheries, National Marine Fisheries Service.

[FR Doc. 2022-09148 Filed 4-27-22; 8:45 am]

BILLING CODE 3510-22-P